DEPARTMENT OF JUSTICE

[OMB Number 1121-NEW]

Agency Information Collection Activities; Proposed eCollection eComments Requested; Census of State and Local Law Enforcement Agencies Serving Tribal Lands (CSLLEASTL)

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. This proposed information collection was previously published in the Federal Register at 81 FR 6295, February 5, 2016, allowing for a 60 day comment period.

DATES: Comments are encouraged and will be accepted for an additional 30 days until May 11, 2016.

FOR FURTHER INFORMATION CONTACT: If you have additional comments especially on the estimated public burden or associated response time, suggestions, or need a copy of the proposed information collection instrument with instructions or additional information, please contact Suzanne Strong, Statistician, Bureau of Justice Statistics, 810 Seventh Street NW., Washington, DC 20531 (email: Suzanne.M.Strong@ojp.usdoj.gov; telephone: 202-616-3666). Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Census of State and Local Law Enforcement Agencies Serving Tribal Lands/part of the State and Local Justice Agencies Serving Tribal Lands collection.

(3) Agency form number, if any, and the applicable component of the Department of Justice sponsoring the collection: The form number for the collection is SLJASTL-15b. The applicable component within the Department of Justice is the Bureau of Justice Statistics, in the Office of Justice Programs.

(4) Affected public who will be asked or required to respond, as well as a brief abstract: Law enforcement agencies were asked on the Census of State and Local Law Enforcement Agencies (CSLLEA) whether they provided services to tribal lands. All agencies that responded yes will be asked to respond. Additionally, because the CSLLEA did not have a full response, any law enforcement agencies contiguous to tribal lands that did not respond to the CSLLEA will also be asked to respond. The Census of State and Local Law Enforcement Agencies Serving Tribal Lands is the first national collection to gather data on the characteristics, functions, and resources of law enforcement agencies that provide services to tribal lands.

(5) An estimate of the total number of respondents and the amount of time estimated for an average respondent to respond: An estimated 1,600 law enforcement agencies will be asked to respond to the survey. About 54% of these respondents will be ineligible to complete the survey instrument. For these entities the burden will be less than 5 minutes. Of the remaining 740 law enforcement agencies, we expect a 95% response rate or 703 agencies. It will take the average interviewed respondent an estimated 60 minutes to respond and 15 minutes for any response verification.

(6) An estimate of the total public burden (in hours) associated with the collection: There are an estimated 879 total burden hours associated with this collection.

If additional information is required contact: Jerri Murray, Department Clearance Officer, United States Department of Justice, Justice Management Division, Policy and Planning Staff, Two Constitution Square, 145 N Street NE., 3E.405B, Washington, DC 20530.

Dated: April 5, 2016.
Jerri Murray,
Department Clearance Officer for PRA, U.S. Department of Justice.

[FR Doc. 2016-08193 Filed 4-8-16; 8:45 am]

BILLING CODE 4410-18-P